DEPARTMENT OF HEALTH AND HUMAN SERVICES

Substance Abuse and Mental Health Services Administration

Center for Mental Health Services National Advisory Council; Notice of Meeting

Pursuant to Public Law 92-463, notice is hereby given for the meeting of the Substance Abuse and Mental Health Services Administration's (SAMHSA) Center for Mental Health Services National Advisory Council (CMHS NAC) on March 18, 2021.

The Council was established to advise the Secretary, Department of Health and Human Services (HHS); the Assistant Secretary for Mental Health and Substance Use, SAMHSA; and Director, CMHS concerning matters relating to the activities carried out by and through the Center and the policies respecting such activities.

The meeting is open to the public and can be accessed remotely only. Attendance by the public on-site will not be available. The meeting will include consideration of the minutes from the August 27, 2020, SAMHSA, CMHS NAC meeting; updates from the CMHS Director; and a discussion from the SAMHSA Chief of Staff and the Acting Assistant Secretary for Mental Health and Substance Use.

The agenda will be posted on the SAMHSA website prior to the meeting at: https://www.samhsa.gov/about-us/advisory-councils/meetings.

Interested persons may present data, information, or views, orally or in writing, on issues pending before the Council. Individuals interested in sending written submissions or making public comments, must forward them to, and notify the contact person on or before March 12, 2021. Up to three minutes will be allotted for each presentation.

Registration is required to participate during this meeting. To attend virtually, or to obtain the call-in number and access code, submit written or brief oral comments, or request special accommodations for persons with disabilities, please register on-line at: http://snacregister.samhsa.gov/MeetingList.aspx, or communicate with Pam Foote, Designated Federal Officer (DFO).

Meeting information and a roster of Council members may be obtained by accessing the SAMHSA website at: http://www.samhsa.gov/about-us/advisory-councils/cmhs-national-advisory-council, or the DFO.

Council Name: Substance Abuse and Mental Health Services Administration Center for Mental Health Services National Advisory Council.

Date/Time/Type: Thursday, March 18, 2021; 1:00 p.m. to 4:30 p.m., EDT, (OPEN).

Place: SAMHSA, 5600 Fishers Lane, Rockville, MD 20857.

Contact: Pamela Foote, Designated Federal Officer (DFO), CMHS National Advisory Council, 5600 Fishers Lane, Room 14E57B, Rockville, Maryland 20857, Telephone: (240) 276-1279, Fax: (301) 480-8491, Email: pamela.foote@samhsa.hhs.gov.

Dated: February 16, 2021.
Carlos Castillo,
Committee Management Officer, SAMHSA.

[FR Doc. 2021-03542 Filed 2-22-21; 8:45 am]

BILLING CODE 4162-20-P